DEPARTMENT OF EDUCATION

Applications for New Awards; Education Innovation and Research Program—Expansion Grants

AGENCY: Office of Innovation and Improvement, Department of Education.

ACTION: Notice.

Overview Information

Education Innovation and Research Program—Expansion Grants.

Notice inviting applications for new awards for fiscal year (FY) 2017.

Catalog of Federal Domestic Assistance (CFDA) Number: 84.411A (Expansion Grants).

Dates: Applications Available: December 19, 2016.

Deadline for Notice of Intent to Apply: February 13, 2017.

Deadline for Transmittal of Applications: April 13, 2017.

Deadline for Intergovernmental Review: June 13, 2017.

Full Text of Announcement

I. Funding Opportunity Description

Purpose of Program: The Education Innovation and Research (EIR) Program, established under section 4611 of the Elementary and Secondary Education Act (ESEA), as amended by Every Student Succeeds Act (ESSA), provides funding to create, develop, implement, replicate, or take to scale entrepreneurial, evidence-based, field-initiated innovations to improve student achievement (as defined in this notice) and attainment for high-need students (as defined in this notice); and rigorously evaluate such innovations. The EIR program is designed to generate and validate solutions to persistent educational challenges and to support the expansion of effective solutions to serve substantially larger numbers of students.

The central design element of the EIR program is its multi-tier structure that links the amount of funding that an applicant may receive to the quality of the evidence supporting the efficacy of the proposed project, with the expectation that projects that build this evidence will advance through EIR's grant tiers. Applicants proposing innovative practices (as defined in this notice) that are supported by limited evidence can receive relatively small grants to support the development, iteration and initial evaluation of the practices; applicants proposing practices supported by evidence from rigorous evaluations, such as large randomized controlled trials (as defined in this notice), can receive larger grant awards to support expansion across the country. This structure provides incentives for applicants to: (1) Explore new ways of addressing persistent challenges that other educators can build on and learn from; (2) build evidence of effectiveness of their practices; and (3) replicate and scale successful practices in new schools, districts, and states while addressing the barriers to scale, such as cost structures and implementation fidelity.

All EIR projects are expected to generate information regarding their effectiveness in order to inform EIR grantees' efforts to learn about and improve upon their efforts, and to help similar, non-EIR efforts across the country benefit from EIR grantees' knowledge. By requiring that all grantees conduct independent evaluations of their EIR projects, EIR ensures that its funded projects make a significant contribution to improving the quality and quantity of information available to practitioners and policymakers about which practices improve student achievement, for which types of students, and in what contexts.

The Department of Education (Department) awards three types of grants under this program: “Early-phase” grants, “Mid-phase” grants, and “Expansion” grants. These grants differ in terms of the level of prior evidence of effectiveness required for consideration for funding, the expectations regarding the kind of evidence and information funded projects should produce, the level of scale that funded projects should reach, and, consequently, the amount of funding available to support each type of project.

Expansion grants provide funding for grantees to scale projects that are supported by strong evidence (as defined in this notice) for at least one population and setting and thus are ready to be implemented at the national level (as defined in this notice). This notice invites applications for Expansion grants only. The notices inviting applications for Early-phase and Mid-phase grants are published elsewhere in this issue of the Federal Register.

Background: EIR builds on seven years of investments—over $1.4 billion, matched by over $200 million in private sector resources—from the Department's Investing in Innovation (i3). i3 has generated new information regarding effective educational practices and increased evaluators' capacity to conduct rigorous evaluations of student learning outcomes that provide actionable information for educators. EIR is designed expand on the successes of i3 to offer new opportunities for States, districts, schools, and educators to develop innovations and scale effective practices that address their most pressing challenges.

EIR Expansion grants are expected to scale practices that have prior evidence of effectiveness, in order to improve outcomes for high-need students. They should also be expected to generate important information about educational practices (e.g., in what contexts does the practice work best? Where does it not work as well? What components of the practice are most critical to its success?). Expansion grants are uniquely positioned to help answer critical questions about the process of scaling a practice across geographies (e.g., how does or should the cost structure of a practice change as it scales? What are ways to facilitate implementation fidelity without making scaling too onerous?). Given that Expansion grants (as with all EIR grants) focus on improving outcomes for high-need students, they are a critical resource for practitioners and policymakers in addressing educational disparities across the nation. Identifying and describing the core elements of the EIR-supported practices is a basic expectation for all Expansion grantees, in order to support adoption or replication by other entities. Evaluations of Expansion grants must be conducted in a variety of contexts and for a variety of students in order to determine the context(s) and population(s) for which the EIR-supported practice is most effective and how to effectively adapt the practice for these contexts and populations. An Expansion grantee's EIR-supported evaluation must examine the cost effectiveness of its practices and identify potential obstacles and success factors to scaling that would be relevant to other organizations. We expect that Expansion grantees will work toward sustaining their projects and continuing to scale successful practices after the EIR grant period ends; EIR grantees can use their evaluations to assess how their EIR-funded practices could be successfully reproduced and sustained.

The FY 2017 EIR Expansion competition includes two absolute priorities that all applicants must address. Applicants must propose practices with strong evidence of prior effectiveness that are designed to improve student achievement and attainment in areas of critical national need and, in doing so, to serve high-need students. Given the recent increase in rigorous education research that is relevant to education practitioners,¹ and ESSA's focus on building and utilizing evidence-based practices, the Department includes these broad priorities to ensure that EIR takes to scale interventions supported by rigorous evidence, and that these interventions target the most pressing challenges and the students most at risk.

¹ Kantrowitz, Barbara, (2014). “Scientists Bring New Rigor to Education Research.” Scientific American, July 15, 2014, www.scientificamerican.com/article/scientists-bring-new-rigor-to-education-research/.

Priorities: This competition includes two absolute priorities. Absolute Priority 1 is from the Department's notice of final supplemental priorities and definitions for discretionary grant programs, published in the Federal Register on December 10, 2014 (79 FR 73425) (Supplemental Priorities). We are establishing Absolute Priority 2 in accordance with section 437(d)(1) of the General Education Provisions Act (GEPA), 20 U.S.C. 1232(d)(1). These absolute priorities will apply to the FY 2017 EIR Expansion competition and any subsequent year in which we make awards from the list of unfunded applicants from this competition.

Absolute Priorities: These priorities are absolute priorities. Under 34 CFR 75.105(c)(3) we consider only applications that meet both of these priorities.

These priorities are:

Absolute Priority 1—Supporting High-Need Students.

Under this priority, we provide funding to projects that are designed to improve academic outcomes for high-need students.

Absolute Priority 2—Evidence-Driven Practices

Under the priority, we provide funding to projects that meet the evidence standard established in Section III.3. for this competition and are designed to improve student achievement and attainment in areas of critical national need.

Definitions

The definitions of “national level,” and “nonprofit,” are from 34 CFR 77.1. The definitions for “high-need students” and “regular high school diploma” are from the Supplemental Priorities. The definitions of “local educational agency” and “state educational agency” are from Section 8101 of the ESEA, as reauthorized by ESSA. We are establishing the definitions for “experimental study” “high-minority school,” “independent evaluation,” “large sample,” “logic model,” “meets What Works Clearinghouse Evidence Standards without reservations,” “meets What Works Clearinghouse Standards with reservations,” “multi-site sample,” “practice,” “randomized controlled trial,” “regression discontinuity design study,” “relevant finding,” “relevant outcome,” “rural local educational agencies,” “single-case design study,” “strong evidence,” and “student achievement” for the FY 2017 grant competition only, in accordance with section 437(d)(1) of GEPA, 20 U.S.C. 1232(d)(1).

Experimental study means a study, such as a randomized controlled trial (RCT) (as defined in this notice), that is designed to compare outcomes between two groups of individuals that are otherwise equivalent except for their assignment to either a treatment group receiving a practice or a control group that does not. In some circumstances, a finding from a regression discontinuity design study (RDD) (as defined in this notice) or findings from a collection of single-case design studies (SCDs) (as defined in this notice) may be considered equivalent to a finding from an RCT. RCTs and RDDs, and collections of SCDs, depending on design and implementation, can Meet What Works Clearinghouse Evidence Standards without reservations (as defined in this notice).

High-minority school means a school as that term is defined by a local educational agency (LEA) (as defined in this notice), which must define the term in a manner consistent with its State's Teacher Equity Plan, as required by section 1111(g)(1)(B) of the Elementary and Secondary Education Act (ESEA), as amended by Every Student Succeeds Act (ESSA). The applicant must provide the definition(s) of high-minority schools used in its application.

High-need students means students who are at risk for educational failure or otherwise in need of special assistance and support, such as students who are living in poverty, who attend high-minority schools (as defined in this notice), who are far below grade level, who have left school before receiving a regular high school diploma (as defined in this notice), who are at risk of not graduating with a diploma on time, who are homeless, who are in foster care, who have been incarcerated, who have disabilities, or who are English learners.

Independent evaluation means that the evaluation is designed and carried out independent of, but in coordination with, any employees of the entities who develop a practice and are implementing it.

Large sample means an analytic sample of 350 or more students (or other single analysis units), or 50 or more groups (such as classrooms or schools) that each contain, on average, 10 or more students (or other single analysis units, regardless of whether these single analysis units are disaggregated in the analysis of outcomes for the groups). Multiple studies can cumulatively be used to meet the multi-site sample (as defined in this notice) and large sample requirements of strong evidence, as long as each study meets the other requirements of the particular level of evidence (i.e., strong evidence).

Local educational agency means:

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) Administrative Control and Direction. The term includes any other public institution or agency having administrative control and direction of a public elementary school or secondary school.

(c) Bureau of Indian Education Schools. The term includes an elementary school or secondary school funded by the Bureau of Indian Education but only to the extent that including the school makes the school eligible for programs for which specific eligibility is not provided to the school in another provision of law and the school does not have a student population that is smaller than the student population of the local educational agency receiving assistance under this Act with the smallest student population, except that the school shall not be subject to the jurisdiction of any State educational agency (as defined in this notice) other than the Bureau of Indian Education.

(d) Educational Service Agencies. The term includes educational service agencies and consortia of those agencies.

(e) State Educational Agency. The term includes the State educational agency in a State in which the State educational agency is the sole educational agency for all public schools.

Logic model (also known as a theory of action) means a reasonable conceptual framework that identifies key components of the proposed project (i.e., the active “ingredients” that are hypothesized to be critical to achieving the relevant outcomes (as defined in this notice)) and describes the theoretical and operational relationships among the key components and outcomes.

Meets What Works Clearinghouse Evidence Standards without reservations is the highest possible rating for a study finding reviewed by the What Works Clearinghouse (WWC). Studies receiving this rating provide the highest degree of confidence that an estimated effect was caused by the practice studied. Experimental studies (as defined in this notice) may receive this highest rating. These standards are described in the WWC Procedures and Standards Handbooks, Version 3.0, which can be accessed at http://ies.ed.gov/ncee/wwc/Handbooks.

Meets What Works Clearinghouse Evidence Standards with reservations is the second-highest rating for a study finding reviewed by the What Works Clearinghouse (WWC). Studies receiving this rating provide a reasonable degree of confidence that an estimated effect was caused by the practice studied. Both experimental studies (as defined in this notice) (such as randomized controlled trials with high rates of sample attrition) and quasi-experimental design studies (as defined in this notice) may receive this rating if they establish the equivalence of the treatment and comparison groups in key baseline characteristics. These standards are described in the WWC Procedures and Standards Handbooks, Version 3.0, which can be accessed at http://ies.ed.gov/ncee/wwc/Handbooks.

Multi-site sample means more than one site, where site can be defined as an LEA, locality, or State. A sample could be multi-site if it includes campuses in two or more localities (e.g., cities or counties), even if the campuses all belong to the same LEA or the same postsecondary school system. Multiple studies can cumulatively be used to meet the multi-site sample and the large sample (as defined in this notice) requirements of strong evidence, as long as each study meets the other requirements for strong evidence.

National level describes the level of scope or effectiveness of a process, product, strategy, or practice that is able to be effective in a wide variety of communities, including rural and urban areas, as well as with different groups (e.g., economically disadvantaged, racial and ethnic groups, migrant populations, individuals with disabilities, English learners, and individuals of each gender).

Nonprofit, as applied to an agency, organization, or institution, means that it is owned and operated by one or more corporations or associations whose net earnings do not benefit, and cannot lawfully benefit, any private shareholder or entity.

Practice means an activity, strategy, or intervention included in a project. Evidence may pertain to an individual practice, or to a combination of practices (e.g., training teachers on instructional practices for English learners and follow-on coaching for these teachers).

Randomized controlled trial (RCT) means a study that employs random assignment of, for example, students, teachers, classrooms, or schools to receive the practice being evaluated (the treatment group) or not to receive the practice (the control group). The estimated effectiveness of the practice is the difference between the average outcomes for the treatment group and for the control group. These studies, depending on design and implementation, can Meet What Works Clearinghouse Evidence Standards without reservations.

Regression discontinuity design study (RDD) means a study that assigns the practice being evaluated using a measured variable (e.g., assigning students reading below a cutoff score to tutoring or developmental education classes) and controls for that variable in the analysis of outcomes. The effectiveness of the practice is estimated for individuals who barely qualify to receive that component. These studies, depending on design and implementation, can Meet What Works Clearinghouse Evidence Standards without reservations.

Regular high school diploma means the standard high school diploma that is awarded to students in the State and that is fully aligned with the State's academic content standards or a higher diploma and does not include a General Education Development (GED) credential, certificate of attendance, or any alternative award.

Relevant finding means a finding from a study regarding the relationship between (a) an activity, strategy, or intervention included as a practice of the logic model (as defined in this notice) for the proposed project, and (b) a student outcome or other relevant outcome included in the logic model for the proposed project.

Relevant outcome means the student outcome(s) (or the ultimate outcome if not related to students) the proposed practice is designed to improve; consistent with the specific goals of a program.

Rural local educational agencies means local educational agencies with an urban-centric district locale code of 32, 33, 41, 42, or 43, which can be found at the following link: https://nces.ed.gov/ccd/ccdLocaleCodeDistrict.asp.

Single-case design study (SCD) means a study that use observations of a single case (e.g., a student eligible for a behavioral intervention) over time in the absence and presence of a controlled treatment manipulation to determine whether the outcome is systematically related to the treatment. According to the What Works Clearinghouse Single Case Design Pilot Standards, a collection of these studies, depending on design and implementation (e.g., including a sufficient number of cases and of data points per condition), can Meet What Works Clearinghouse Evidence Standards without reservations.

State educational agency means the agency primarily responsible for the State supervision of public elementary schools and secondary schools.

Strong evidence means the following conditions are met: (a) There is at least one experimental study (e.g., a randomized controlled trial) of the effectiveness of the practice that has a relevant finding (as defined in this notice) that Meets What Works Clearinghouse Evidence Standards without reservations (as defined in this notice) (e.g., a randomized controlled trial with low rates of sample attrition overall and between the treatment and control groups); (b) the relevant finding in the study described in paragraph (a) is of a statistically significant and positive (i.e., favorable) effect on a student outcome or other relevant outcome, with no statistically significant and overriding negative (i.e., unfavorable) evidence on that practice from other findings on the intervention reviewed by and reported on the What Works Clearinghouse that Meet What Works Clearinghouse Evidence Standards with or without reservations; (c) the relevant finding in the study described in paragraph (a) is based on a sample that overlaps with the populations (e.g., the types of student served) and settings proposed to receive the practice (e.g., an after-school program both studied in, and proposed for, urban high schools); and (d) the relevant finding in the study described in paragraph (a) is based on a large sample and a multi-site sample.

Student achievement means—

For grades and subjects in which assessments are required under section 1111(b)(2) of Elementary and Secondary Education Act (ESEA), as amended by Every Student Succeeds Act (ESSA): (1) A student's score on such assessments; and, as appropriate (2) other measures of student learning, such as those described in the subsequent paragraph, provided that they are rigorous and comparable across schools with a local educational agency (LEA).

For grades and subjects in which assessments are not required under section 1111(b)(2) of ESEA, as amended by ESSA: (1) Alternative measures of student learning and performance, such as student results on pre-tests, end-of-course tests, and objective performance-based assessments; (2) students learning objectives; (3) student performance on English language proficiency assessments; and (4) other measures of student achievement that are rigorous and comparable across schools within an LEA.

Waiver of Proposed Rulemaking: Under the Administrative Procedure Act (5 U.S.C. 553), the Department generally offers interested parties the opportunity to comment on proposed priorities, definitions, and other requirements. Section 437(d)(1) of GEPA, however, allows the Secretary to exempt from rulemaking requirements, regulations governing the first grant competition under a new or substantially revised program authority. This is the first grant competition for the EIR program under 20 U.S.C. 1138-1138d and therefore qualifies for this exemption. In order to ensure timely grant awards, the Secretary has decided to forego public comment on the priorities, definitions, and requirements under section 437(d)(1) of GEPA. These priorities, definitions, and requirements will apply to the FY 2017 grant competition only.

Program Authority: Section 4611 of the ESEA, as amended by P.L. 114-95 ESSA.

Applicable Regulations: (a) The Education Department General Administrative Regulations (EDGAR) in 34 CFR parts 75, 77, 79, 81, 82, 84, 86, 97, 98, and 99. (b) The OMB Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

Note: The regulations in 34 CFR part 79 apply to all applicants except federally recognized Indian tribes.

Note: The regulations in 34 CFR part 86 apply to institutions of higher education only.

II. Award Information

Type of Award: Cooperative agreements.

Estimated Available Funds: The Administration has requested $180,000,000 for new awards for this program for FY 2017, of which approximately $141,000,000 would be used, in total, for new awards under the Early-phase, Mid-phase, and Expansion competitions. The actual level of funding, if any, depends on final congressional action. However, we are inviting applications to allow enough time to complete the grant process if Congress appropriates funds for this program.

Contingent upon the availability of funds and the quality of applications, we may make additional awards in subsequent years from the list of unfunded applications from this competition.

Estimated Range of Awards:

Early-phase grants: $700,000-$800,000 per year.

Mid-phase grants: $1,400,000-$1,600,000 per year.

Expansion grants: $2,750,000-$3,000,000 per year.

Estimated Average Size of Awards:

Early-phase grants: $3,750,000 for the entirety of the project period.

Mid-phase grants: $7,750,000 for the entirety of the project period.

Expansion grants: $14,500,000 for the entirety of the project period.

Estimated Number of Awards:

Early-phase grants: 24-38 awards.

Mid-phase grants: 15-20 awards.

Expansion grants: 3-5 awards.

Maximum Awards:

Early-phase grants: $4,000,000 for the entirety of the project period.

Mid-phase grants: $8,000,000 for the entirety of the project period.

Expansion grants: $15,000,000 for the entirety of the project period.

Project Period: Up to 60 months.

Under section 4611(c) of the ESEA, as amended by ESSA, the Department must use at least 25 percent of EIR funds for a fiscal year to make awards to applicants serving rural areas, contingent on receipt of a sufficient number of applications of sufficient quality. For purposes of this competition, we will consider an applicant as rural if the applicant meets the qualifications for rural applicants as described in the eligible applicants section and the applicant certifies that it meets those qualifications through the application.

In implementing this statutory provision, the Department may fund high-quality applications from rural applicants out of rank order in one or more of the EIR competitions.

Note: The Department is not bound by any estimates in this notice.

III. Eligibility Information

1. Eligible Applicants:

(a) An LEA;

(b) A State educational agency;

(c) The Bureau of Indian Education;

(d) A consortium of State educational agencies or LEAs;

(e) A nonprofit (as defined in this notice) organization; and

(f) A State educational agency, an LEA, a consortium described in (d), or the Bureau of Indian Education, in partnership with—

(1) A nonprofit organization;

(2) A business;

(3) An educational service agency; or

(4) An institution of higher education.

To qualify as a rural applicant under the EIR program, an applicant must meet both of the following requirements:

(a) The applicant is—

(1) An LEA with an urban-centric district locale code of 32, 33, 41, 42, or 43, as determined by the Secretary;

(2) A consortium of such LEAs;

(3) An educational service agency or a nonprofit organization in partnership with such an LEA; or

(4) A grantee described in clause (1) or (2) in partnership with a State educational agency; and

(b) A majority of the schools to be served by the program are designated with a locale code of 32, 33, 41, 42, or 43, or a combination of such codes, as determined by the Secretary.

More information on rural applicant eligibility is in the application package.

2. a. Cost Sharing or Matching: Under section 4611 of the ESEA, as amended by ESSA, each grant recipient must provide, from Federal, State, local, or private sources, an amount equal to 10 percent of funds provided under the grant, which may be provided in cash or through in-kind contributions, to carry out activities supported by the grant. Grantees must include a budget showing their matching contributions on an annual basis relative to the annual budget amount of EIR grant funds and must provide evidence that they have secured their matching contributions for the first year of the grant in their grant applications. Section 4611 of the ESEA, as amended by ESSA also authorizes the Secretary to waive this matching requirement on a case-by-case basis, upon a showing of exceptional circumstances, such as:

(a) The difficulty of raising matching funds for a program to serve a rural area;

(b) The difficulty of raising matching funds in areas with a concentration of LEAs or schools with a high percentage of students aged 5 through 17—

(1) Who are in poverty, as counted in the most recent census data approved by the Secretary;

(2) Who are eligible for a free or reduced price lunch under the Richard B. Russell National School Lunch Act (42 U.S.C. 1751 et seq.);

(3) Whose families receive assistance under the State program funded under part A of title IV of the Social Security Act (42 U.S.C. 601 et seq.); or

(4) Who are eligible to receive medical assistance under the Medicaid program; and

(c) The difficulty of raising funds on tribal land.

Applicants that wish to apply for a waiver must include a request in their application that describes why the matching requirement would cause serious hardship or an inability to carry out project activities. Further information about applying for waivers can be found in the application package. However, given the importance of matching funds to the long-term success of the project, the Secretary expects eligible entities to identify appropriate matching funds.

3. Other: The Secretary establishes the following requirements for the EIR program.

• Innovations that Serve Kindergarten-through-Grade-12 (K-12) Students: All grantees must implement practices that serve students who are in grades K-12 at some point during the funding period. To meet this requirement, projects that serve early learners (i.e., infants, toddlers, or preschoolers) must provide services or supports that extend into kindergarten or later years, and projects that serve postsecondary students must provide services or supports during the secondary grades or earlier.

• Evidence Standards: To be eligible for an award, an application for an Expansion grant must be supported by strong evidence (as defined in this notice) for at least one population and setting.

Note: An applicant must identify up to four study citations to be reviewed against WWC Evidence Standards for the purposes of meeting the EIR evidence standard requirement. An applicant should clearly identify these citations in the Evidence form. The Department will not review a study citation that an applicant fails to clearly identify for review. In addition to including up to four study citations, applicants must include a description of: (1) The positive student outcomes they intend to replicate under their Expansion grant and how the positive student outcomes correspond with the high-need students to be served under the Expansion grant; (2) the practice(s) the applicant plans to implement; and (3) the intended student outcomes that the practices(s) attempts to impact in the form.

An applicant must ensure that all evidence is available to the Department from publicly available sources and provide links or other guidance indicating where it is available. If the Department determines that an applicant has provided insufficient information, the applicant will not have an opportunity to provide additional information at a later time. However, if the WWC determines that a study does not provide enough information on key aspects of the study design, such as sample attrition or equivalence of intervention and comparison groups, the WWC will submit a query to the study author(s) to gather information for use in determining a study rating. Authors are asked to respond to queries within 10 business days. Should the author query remain incomplete within 14 days of the initial contact to the study author(s), the study will be deemed ineligible under the grant competition. After the grant competition closes, the WWC will continue to include responses to author queries and will make updates to study reviews as necessary. However, the competition can only take into account information that is available at the time the competition is open.

Note: The evidence standards apply to the prior research that supports the effectiveness of the proposed project. The EIR program does not restrict the source of prior research providing evidence for the proposed project. As such, an applicant could cite prior research in the Evidence form for studies that were conducted by another entity (i.e., an entity that is not the applicant) so long as the prior research studies cited in the application are relevant to the effectiveness of the proposed project.

• Funding Categories: An applicant will be considered for an award only for the type of EIR grant (i.e., Early-phase, Mid-Phase, and Expansion grant) for which it applies. An applicant may not submit an application for the same proposed project under more than one type of grant.

Note: Each application will be reviewed under the competition it was submitted under in the Grants.gov system, and only applications that are successfully submitted by the established deadline will be peer reviewed. Applicants should be careful that they download the intended EIR application package and that they submit their applications under the intended EIR competition.

• Limit on Grant Awards: No grantee may receive in a single year new EIR grant awards that total an amount greater than the sum of the maximum amount of funds for an Expansion grant and the maximum amount of funds for an Early-phase grant for that year. For example, in a year when the maximum award value for an Expansion grant is $15 million and the maximum award value for an Early-phase grant is $4 million, no grantee may receive in a single year new grants totaling more than $19 million.

• Partnerships: An applicant must demonstrate sufficient partnerships with schools/LEA(s) by identifying in the application implementation schools/LEA(s) for years 1 and 2 of the grant project.

• Evaluation: The grantee must conduct an independent evaluation (as defined in this notice) of its project. This evaluation must estimate the impact of the EIR-supported practice (as implemented at the proposed level of scale) on a relevant outcome. An Expansion grantee's evaluation must examine the cost effectiveness of its practices and identify potential obstacles and success factors to scaling such practices, including those that would be relevant to other organizations.

In addition, the grantee and its independent evaluator must agree to cooperate with any technical assistance provided by the Department or its contractor and comply with the requirements of any evaluation of the program conducted by the Department. This includes providing to the Department or its contractor, an updated comprehensive evaluation plan in a format and using such tools as the Department may require, as outlined in the Cooperative Agreement. Expansion grantees' evaluations plans must include a description of how they intend to assess the scaling strategy in addition to measuring impact of the practice. Grantees must update this evaluation plan at least annually to reflect any changes to the evaluation. All of these updates must be consistent with the scope and objectives of the approved application.

• Public Availability of Data and Results: Applications under Expansion grants must include a Data Management Plan (DMP); the DMP should be no more than five pages in Appendix C that describes the applicant's plans for making the final research data from the proposed project accessible to others. Resources that may be of interest to researchers in developing a data management plan can be found at http://ies.ed.gov/funding/researchaccess.asp. DMPs are expected to differ depending on the nature of the project and the data collected. By addressing the items identified below, your DMP describes how you will share data under the DMP you are required to include in your application. The DMP should include the following:

(a) Type of data to be shared;

(b) Procedures for managing and for maintaining the confidentiality of personally identifiable information;

(c) Roles and responsibilities of project or institutional staff in the management and retention of research data, including a discussion of any changes to the roles and responsibilities that will occur should the Project Director/Principal Investigator and/or co-Project Directors/co-Principal Investigators leave the project or their institution;

(d) Expected schedule for data access, including how long the data will remain accessible (at least 10 years unless a shorter period of time is required to comply with applicable Federal or State laws or agreements promulgated to ensure compliance with such laws in which the destruction of records or personal information is required within a shorter period of time) and acknowledgement that the timeframe of data accessibility will be reviewed at the annual progress reviews and revised as necessary;

(e) Format of the final dataset;

(f) Dataset documentation to be provided;

(g) Method of data access (e.g., provided by the Project Director/Principal Investigator, through a data archive) and how those interested in using the data can locate and access them;

(h) Whether or not a data agreement that specifies conditions under which the data will be shared will be required; and

(i) Any circumstances that prevent all or some of the data from being made accessible. This includes data that may fall under multiple statutes and, hence, must meet the confidentiality requirements for each applicable statute (e.g., data covered by Common Rule for Protection of Human Subjects, Family Educational Rights and Privacy Act (FERPA), and Health Insurance Portability and Accountability Act (HIPAA)).

The costs of the DMP can be covered by the grant and should be included in the budget and explained in the budget narrative. The peer-review process will not include the DMP in the scoring of the application. The EIR team will be responsible for reviewing the completeness of the proposed DMP and will work with EIR grantees to finalize the DMP once the grant is awarded.

Recipients of awards are expected to publish or otherwise make publicly available the results of the work supported through EIR, including the evaluation report. EIR grantees must submit final studies resulting from research supported in whole or in part by EIR to the Educational Resources Information Center (ERIC), http://eric.ed.gov.

• Scaling: Expansion grants must scale the project to a national level and include new contexts and populations for implementation. Scaling targets should be established for the number of students to be served for the total project period as well as the target number of students to be served each year of the project. Expansion grants must also include their scaling strategy as a component of the evaluation plan for the grant. Given that all EIR grantees are required to report on the performance measure regarding the target number of students served by the grant, applicants should propose scaling targets that represent reasonable costs per student for the grant.

• Management Plan: An EIR grantee must provide an updated comprehensive management plan for the approved project in a format and using such tools as the Department may require, as outlined in the Cooperative Agreement. This management plan must include detailed information about implementation of the first year of the grant, including key milestones, staffing details, and other information that the Department may require. It must also include a complete list of performance metrics, including baseline measures and annual targets. The grantee must update this management plan at least annually to reflect implementation of subsequent years of the project.

IV. Application and Submission Information

1. Address to Request Application Package: You can obtain an application package via the Internet or from the Education Publications Center (ED Pubs). To obtain a copy via the Internet, use the following address: http://innovation.ed.gov/what-we-do/innovation/education-innovation-and-research-eir/. To obtain a copy from ED Pubs, write, fax, or call: ED Pubs, U.S. Department of Education, P.O. Box 22207, Alexandria, VA 22304. Telephone, toll free: 1-877-433-7827. FAX: (703) 605-6794. If you use a telecommunications device for the deaf (TDD) or a text telephone (TTY), call, toll free: 1-877-576-7734.

You can contact ED Pubs at its Web site, also: www.EDPubs.gov or at its email address: edpubs@inet.ed.gov.

If you request an application package from ED Pubs, be sure to identify this program or competition as follows: CFDA number 84.411A.

Individuals with disabilities can obtain a copy of the application package in an accessible format (e.g., braille, large print, audiotape, or compact disc) by contacting the person or team listed under Accessible Format in section VIII of this notice.

2.a. Content and Form of Application Submission: Requirements concerning the content and form of an application, together with the forms you must submit, are in the application package for this competition. Notice of Intent to Apply: February 13, 2017.

We will be able to develop a more efficient process for reviewing grant applications if we know the approximate number of applicants that intend to apply for funding under this competition. Therefore, the Secretary strongly encourages each potential applicant to notify us of the applicant's intent to submit an application by completing a Web-based form. When completing this form, applicants will provide (1) the applicant organization's name and address and (2) the absolute priority the applicant intends to address. Applicants may access this form online at https://www.surveymonkey.com/r/GRZ5RDW. Applicants that do not complete this form may still submit an application. Pre-Application: The EIR program intends to hold Webinars and/or meetings designed to provide technical assistance to interested applicants for all three types of grants. Detailed information regarding these Webinars and/or meetings will be provided on the EIR Web site at http://innovation.ed.gov/what-we-do/innovation/education-innovation-and-research-eir/.

Page Limit: The application narrative (Part III of the application) is where you, the applicant, address the selection criteria that reviewers use to evaluate your application. Applicants should limit the application narrative for an Expansion grant application to no more than 50 pages, using the following standards:

• A “page” is 8.5″ x 11″, on one side only, with 1″ margins at the top, bottom, and both sides.

• Double space (no more than three lines per vertical inch) all text in the application narrative, including titles, headings, footnotes, quotations, references, and captions.

• Use a font that is either 12 point or larger or no smaller than 10 pitch (characters per inch).

• Use one of the following fonts: Times New Roman, Courier, Courier New, or Arial.

The page limit does not apply to Part I, the cover sheet; Part II, the budget section, including the narrative budget justification; Part IV, the assurances and certifications; or the one-page abstract, the resumes, the bibliography, or the letters of support. However, the page limit does apply to all of the application narrative.

b. Submission of Proprietary Information: Given the types of projects that may be proposed in applications for the Expansion competition, your application may include business information that you consider proprietary. In 34 CFR 5.11 we define “business information” and describe the process we use in determining whether any of that information is proprietary and, thus, protected from disclosure under Exemption 4 of the Freedom of Information Act (5 U.S.C. 552, as amended).

We plan on posting the project narrative section of funded EIR applications on the Department's Web site. Accordingly, you may wish to request confidentiality of business information. Identifying proprietary information in the submitted application will help facilitate this public disclosure process.

Consistent with Executive Order 12600, please designate in your application any information that you believe is exempt from disclosure under Exemption 4. In the appropriate Appendix section of your application, under “Other Attachments Form,” please list the page number or numbers on which we can find this information. For additional information please see 34 CFR 5.11(c).

3. Submission Dates and Times:

Applications Available: December 19, 2016.

Deadline for Notice of Intent to Apply: February 13, 2017.

Pre-Application Webinars and/or Meetings: The EIR program intends to hold Webinars and/or meetings designed to provide technical assistance to interested applicants for all three types of grants. Detailed information regarding these Webinars and/or meetings will be provided on the EIR Web site at http://innovation.ed.gov/what-we-do/innovation/education-innovation-and-research-eir/.

Deadline for Transmittal of Applications: April 13, 2017.

Applications for grants under this competition must be submitted electronically using the Grants.gov Apply site (Grants.gov). For information (including dates and times) about how to submit your application electronically, or in paper format by mail or hand delivery if you qualify for an exception to the electronic submission requirement, please refer to Other Submission Requirements in section IV of this notice.

We do not consider an application that does not comply with the deadline requirements.

Individuals with disabilities who need an accommodation or auxiliary aid in connection with the application process should contact the person listed under FOR FURTHER INFORMATION CONTACT in section VII of this notice. If the Department provides an accommodation or auxiliary aid to an individual with a disability in connection with the application process, the individual's application remains subject to all other requirements and limitations in this notice.

Deadline for Intergovernmental Review: June 13, 2017.

4. Intergovernmental Review: This competition is subject to Executive Order 12372 and the regulations in 34 CFR part 79. Information about Intergovernmental Review of Federal Programs under Executive Order 12372 is in the application package for this competition.

5. Funding Restrictions: We reference regulations outlining funding restrictions in the Applicable Regulations section of this notice.

6. Data Universal Numbering System Number, Taxpayer Identification Number, and System for Award Management: To do business with the Department of Education, you must—

a. Have a Data Universal Numbering System (DUNS) number and a Taxpayer Identification Number (TIN);

b. Register both your DUNS number and TIN with the System for Award Management (SAM), the Government's primary registrant database;

c. Provide your DUNS number and TIN on your application; and

d. Maintain an active SAM registration with current information while your application is under review by the Department and, if you are awarded a grant, during the project period.

You can obtain a DUNS number from Dun and Bradstreet at the following Web site: http://fedgov.dnb.com/webform. A DUNS number can be created within one to two business days.

If you are a corporate entity, agency, institution, or organization, you can obtain a TIN from the Internal Revenue Service. If you are an individual, you can obtain a TIN from the Internal Revenue Service or the Social Security Administration. If you need a new TIN, please allow two to five weeks for your TIN to become active.

The SAM registration process can take approximately seven business days, but may take upwards of several weeks, depending on the completeness and accuracy of the data you enter into the SAM database. Thus, if you think you might want to apply for Federal financial assistance under a program administered by the Department, please allow sufficient time to obtain and register your DUNS number and TIN. We strongly recommend that you register early.

Note: Once your SAM registration is active, it may be 24 to 48 hours before you can access the information in, and submit an application through, Grants.gov.

If you are currently registered with SAM, you may not need to make any changes. However, please make certain that the TIN associated with your DUNS number is correct. Also note that you will need to update your registration annually. This may take three or more business days.

Information about SAM is available at www.SAM.gov. To further assist you with obtaining and registering your DUNS number and TIN in SAM or updating your existing SAM account, we have prepared a SAM.gov Tip Sheet, which you can find at: www2.ed.gov/fund/grant/apply/sam-faqs.html.

In addition, if you are submitting your application via Grants.gov, you must (1) be designated by your organization as an Authorized Organization Representative (AOR); and (2) register yourself with Grants.gov as an AOR. Details on these steps are outlined at the following Grants.gov Web page: www.grants.gov/web/grants/register.html.

7. Other Submission Requirements: Applications for grants under this program competition must be submitted electronically unless you qualify for an exception to this requirement in accordance with the instructions in this section.

a. Electronic Submission of Applications.

Applications for grants under the EIR Program, CFDA number 84.411A, must be submitted electronically using the Governmentwide Grants.gov Apply site at www.Grants.gov. Through this site, you will be able to download a copy of the application package, complete it offline, and then upload and submit your application. You may not email an electronic copy of a grant application to us.

We will reject your application if you submit it in paper format unless, as described elsewhere in this section, you qualify for one of the exceptions to the electronic submission requirement and submit, no later than two weeks before the application deadline date, a written statement to the Department that you qualify for one of these exceptions. Further information regarding calculation of the date that is two weeks before the application deadline date is provided later in this section under Exception to Electronic Submission Requirement. You may access the electronic grant application for EIR Expansion at www.Grants.gov. You must search for the downloadable application package for this competition by the CFDA number. Do not include the CFDA number's alpha suffix in your search (e.g., search for 84.411, not 84.411A).

Please note the following:

• When you enter the Grants.gov site, you will find information about submitting an application electronically through the site, as well as the hours of operation.

• Applications received by Grants.gov are date and time stamped. Your application must be fully uploaded and submitted and must be date and time stamped by the Grants.gov system no later than 4:30:00 p.m., Washington, DC time, on the application deadline date. Except as otherwise noted in this section, we will not accept your application if it is received—that is, date and time stamped by the Grants.gov system—after 4:30:00 p.m., Washington, DC time, on the application deadline date. We do not consider an application that does not comply with the deadline requirements. When we retrieve your application from Grants.gov, we will notify you if we are rejecting your application because it was date and time stamped by the Grants.gov system after 4:30:00 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov under News and Events on the Department's G5 system home page at www.G5.gov. In addition, for specific guidance and procedures for submitting an application through Grants.gov, please refer to the Grants.gov Web site at: www.grants.gov/web/grants/applicants/apply-for-grants.html.

• You will not receive additional point value because you submit your application in electronic format, nor will we penalize you if you qualify for an exception to the electronic submission requirement, as described elsewhere in this section, and submit your application in paper format.

• You must submit all documents electronically, including all information you typically provide on the following forms: The Application for Federal Assistance (SF 424), the Department of Education Supplemental Information for SF 424, Budget Information—Non-Construction Programs (ED 524), and all necessary assurances and certifications.

• You must upload any narrative sections and all other attachments to your application as files in a read-only Portable Document Format (PDF). Do not upload an interactive or fillable PDF file. If you upload a file type other than a read-only PDF (e.g., Word, Excel, WordPerfect, etc.) or submit a password-protected file, we will not review that material. Please note that this could result in your application not being considered for funding because the material in question—for example, the application narrative—is critical to a meaningful review of your proposal. For that reason it is important to allow yourself adequate time to upload all material as PDF files. The Department will not convert material from other formats to PDF.

• Your electronic application must comply with any page-limit requirements described in this notice.

• After you electronically submit your application, you will receive from Grants.gov an automatic notification of receipt that contains a Grants.gov tracking number. This notification indicates receipt by Grants.gov only, not receipt by the Department. Grants.gov will also notify you automatically by email if your application met all the Grants.gov validation requirements or if there were any errors (such as submission of your application by someone other than a registered Authorized Organization Representative, or inclusion of an attachment with a file name that contains special characters). You will be given an opportunity to correct any errors and resubmit, but you must still meet the deadline for submission of applications.

Once your application is successfully validated by Grants.gov, the Department will retrieve your application from Grants.gov and send you an email with a unique PR/Award number for your application.

These emails do not mean that your application is without any disqualifying errors. While your application may have been successfully validated by Grants.gov, it must also meet the Department's application requirements as specified in this notice and in the application instructions. Disqualifying errors could include, for instance, failure to upload attachments in a read-only, non-modifiable PDF; failure to submit a required part of the application; or failure to meet applicant eligibility requirements. It is your responsibility to ensure that your submitted application has met all of the Department's requirements.

• We may request that you provide us original signatures on forms at a later date.

Application Deadline Date Extension in Case of Technical Issues with the Grants.gov System: If you are experiencing problems submitting your application through Grants.gov, please contact the Grants.gov Support Desk, toll free, at 1-800-518-4726. You must obtain a Grants.gov Support Desk Case Number and must keep a record of it.

If you are prevented from electronically submitting your application on the application deadline date because of technical problems with the Grants.gov system, we will grant you an extension until 4:30:00 p.m., Washington, DC time, the following business day to enable you to transmit your application electronically or by hand delivery. You also may mail your application by following the mailing instructions described elsewhere in this notice.

If you submit an application after 4:30:00 p.m., Washington, DC time, on the application deadline date, please contact the person listed under FOR FURTHER INFORMATION CONTACT in section VII of this notice and provide an explanation of the technical problem you experienced with Grants.gov, along with the Grants.gov Support Desk Case Number. We will accept your application if we can confirm that a technical problem occurred with the Grants.gov system and that the problem affected your ability to submit your application by 4:30:00 p.m., Washington, DC time, on the application deadline date. We will contact you after we determine whether your application will be accepted.

Note: The extensions to which we refer in this section apply only to the unavailability of, or technical problems with, the Grants.gov system. We will not grant you an extension if you failed to fully register to submit your application to Grants.gov before the application deadline date and time or if the technical problem you experienced is unrelated to the Grants.gov system.

Exception to Electronic Submission Requirement: You qualify for an exception to the electronic submission requirement, and may submit your application in paper format, if you are unable to submit an application through the Grants.gov system because—

• You do not have access to the Internet; or

• You do not have the capacity to upload large documents to the Grants.gov system;

and

• No later than two weeks before the application deadline date (14 calendar days or, if the fourteenth calendar day before the application deadline date falls on a Federal holiday, the next business day following the Federal holiday), you mail or fax a written statement to the Department, explaining which of the two grounds for an exception prevents you from using the Internet to submit your application.

If you mail your written statement to the Department, it must be postmarked no later than two weeks before the application deadline date. If you fax your written statement to the Department, we must receive the faxed statement no later than two weeks before the application deadline date.

Address and mail or fax your statement to: Kelly Terpak, U.S. Department of Education, 400 Maryland Avenue SW., Room 4W312, Washington, DC 20202-5900. FAX: (202) 401-4123.

Your paper application must be submitted in accordance with the mail or hand-delivery instructions described in this notice.

b. Submission of Paper Applications by Mail.

If you qualify for an exception to the electronic submission requirement, you may mail (through the U.S. Postal Service or a commercial carrier) your application to the Department. You must mail the original and two copies of your application, on or before the application deadline date, to the Department at the following address: U.S. Department of Education, Application Control Center, Attention: (CFDA Number 84.411A), LBJ Basement Level 1, 400 Maryland Avenue SW., Washington, DC 20202-4260.

You must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

Note: The U.S. Postal Service does not uniformly provide a dated postmark. Before relying on this method, you should check with your local post office.

We will not consider applications postmarked after the application deadline date.

c. Submission of Paper Applications by Hand Delivery.

If you qualify for an exception to the electronic submission requirement, you (or a courier service) may deliver your paper application to the Department by hand. You must deliver the original and two copies of your application, by hand, on or before the application deadline date, to the Department at the following address: U.S. Department of Education, Application Control Center,Attention: (CFDA Number 84.411A),550 12th Street SW., Room 7039, Potomac Center Plaza, Washington, DC 20202-4260.

The Application Control Center accepts hand deliveries daily between 8:00 a.m. and 4:30:00 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

1. Selection Criteria: The selection criteria for the Expansion competition are from 34 CFR 75.210.

The points assigned to each criterion are indicated in the parentheses next to the criterion. An applicant may earn up to a total of 100 points based on the selection criteria for the application.

A. Significance (Up to 10 Points)

In determining the significance of the project, the Secretary considers the following factors:

(1) The magnitude or severity of the problem to be addressed by the proposed project.

(2) The national significance of the proposed project.

(3) The extent to which the proposed project represents an exceptional approach to the priority or priorities established for the competition.

B. Strategy to Scale (Up to 35 Points)

In determining the applicant's capacity to scale the proposed project, the Secretary considers the following factors:

(1) The extent to which the applicant demonstrates there is unmet demand for the process, product, strategy, or practice that will enable the applicant to reach the level of scale that is proposed in the application.

(2) The extent to which the applicant identifies a specific strategy or strategies that address a particular barrier or barriers that prevented the applicant, in the past, from reaching the level of scale that is proposed in the application.

(3) The extent to which the results of the proposed project are to be disseminated in ways that will enable others to use the information or strategies.

C. Quality of the Project Design and Management Plan (Up to 35 Points)

In determining the quality of the proposed project design, the Secretary considers the following factors:

(1) The extent to which the goals, objectives, and outcomes to be achieved by the proposed project are clearly specified and measurable.

(2) The adequacy of the management plan to achieve the objectives of the proposed project on time and within budget, including clearly defined responsibilities, timelines, and milestones for accomplishing project tasks.

(3) The adequacy of procedures for ensuring feedback and continuous improvement in the operation of the proposed project.

(4) The extent to which the applicant demonstrates that it has the resources to operate the project beyond the length of the grant, including a multi-year financial and operating model and accompanying plan; the demonstrated commitment of any partners; evidence of broad support from stakeholders (e.g., State educational agencies, teachers' unions) critical to the project's long-term success; or more than one of these types of evidence.

D. Quality of the Project Evaluation (Up to 20 Points)

In determining the quality of the project evaluation to be conducted, the Secretary considers the following factors:

(1) The extent to which the methods of evaluation will, if well implemented, produce evidence about the project's effectiveness that would meet the What Works Clearinghouse Evidence Standards without reservations.

(2) The extent to which the evaluation will provide guidance about effective strategies suitable for replication or testing in other settings.

(3) The extent to which the methods of evaluation will provide valid and reliable performance data on relevant outcomes.

(4) The extent to which the evaluation plan clearly articulates the key components, mediators, and outcomes of the grant-supported intervention, as well as a measurable threshold for acceptable implementation.

Note: Applicants may wish to review the following technical assistance resources on evaluation: (1) WWC Procedures and Standards Handbook: http://ies.ed.gov/ncee/wwc/references/idocviewer/doc.aspx?docid=19&tocid=1; and (2) “Technical Assistance Materials for Conducting Rigorous Impact Evaluations” to the list of evaluation resources: http://ies.ed.gov/ncee/projects/evaluationTA.asp; and (3) IES/NCEE Technical Methods papers: http://ies.ed.gov/ncee/tech_methods/. In addition, applicants may view two optional Webinar recordings that were hosted by the Institute of Education Sciences. One Webinar focused on more rigorous evaluation designs, discussing strategies for designing and executing studies that meet WWC evidence standards without reservations. This Webinar is available at: http://ies.ed.gov/ncee/wwc/Multimedia.aspx?sid=18.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

Before making awards, we will screen applications submitted in accordance with the requirements in this notice to determine whether applications have met eligibility and other requirements. This screening process may occur at various stages of the process; applicants that are determined to be ineligible will not receive a grant, regardless of peer reviewer scores or comments.

Peer reviewers will read, prepare a written evaluation of, and score the assigned applications, using the selection criteria provided in this notice. For Expansion grant applications we intend to conduct a single-tier review.

In addition, in making a competitive grant award, the Secretary requires various assurances, including those applicable to Federal civil rights laws that prohibit discrimination in programs or activities receiving Federal financial assistance from the Department of Education (34 CFR 100.4, 104.5, 106.4, 108.8, and 110.23).

3. Risk Assessment and Special Conditions: Consistent with 2 CFR 200.205, before awarding grants under this competition the Department conducts a review of the risks posed by applicants. Under 2 CFR 3474.10, the Secretary may impose special conditions and, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $150,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through SAM. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

4. Performance Measures: The overall purpose of the EIR program is to expand the implementation of, and investment in, innovative practices that are demonstrated to have an impact on improving student achievement for high-need students. We have established several performance measures for the EIR Expansion grants.

Annual performance measures: (1) The percentage of grantees that reach their annual target number of students as specified in the application; (2) the percentage of grantees that reach their annual target number of high-need students as specified in the application; (3) the percentage of grantees with ongoing well-designed and independent evaluations that will provide evidence of their effectiveness at improving student outcomes in multiple contexts; (4) the percentage of grantees that implement a well-designed, well-implemented, and independent evaluation that provides information about the key practices and the approach of the project so as to facilitate replication; (5) the percentage of grantees that implement an evaluation that provides information on the cost effectiveness of the key practices to identify potential obstacles and success factors to scaling; and (6) the cost per student served by the grant.

Cumulative performance measures: (1) The percentage of grantees that reach the targeted number of students specified in the application; (2) the percentage of grantees that reached the targeted number of high-need students specified in the application; (3) the percentage of grantees that implement a completed well-designed, well-implemented, and independent evaluation that provides evidence of their effectiveness at improving student outcomes in multiple contexts; (4) the percentage of grantees with a completed well-designed, well-implemented, and independent evaluation that provides information about the key elements and the approach of the project so as to facilitate replication or testing in other settings; (5) the percentage of grantees with an evaluation that provided information on the cost effectiveness of the key practices, and obstacles and success factors to scaling; and (6) the cost per student served by the grant.

5. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Agency Contact

FOR FURTHER INFORMATION CONTACT: Kelly Terpak, U.S. Department of Education, 400 Maryland Avenue SW., Room 4W312, Washington, DC 20202-5900. Telephone: (202) 453-7122. FAX: (202) 401-4123 or by email: eir@ed.gov.

If you use a TDD or a TTY, call the Federal Relay Service, toll free, at 1-800-877-8339.

VIII. Other Information

Accessible Format: Individuals with disabilities can obtain this document and a copy of the application package in an accessible format (e.g., braille, large print, audiotape, or compact disc) on request to the program contact person listed under For Further Information Contact in section VII of this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Portable Document Format (PDF). To use PDF you must have Adobe Acrobat Reader, which is available free at the site.

You may also access documents of the Department published in the Federal Register by using the article search feature at: www.federalregister.gov. Specifically, through the advanced search feature at this site, you can limit your search to documents published by the Department.

Dated: December 9, 2016.
Nadya Chinoy Dabby,
Assistant Deputy Secretary for Innovation and Improvement.

[FR Doc. 2016-30086 Filed 12-14-16; 8:45 am]

BILLING CODE 4000-01-P